NUCLEAR REGULATORY COMMISSION

[NRC-2009-0568]

NUREG-1934, Nuclear Power Plant Fire Modeling Application Guide (NPP FIRE MAG); Second Draft Report for Comment

AGENCY: Nuclear Regulatory Commission.

ACTION: Announcement of issuance for public comment, availability.

SUMMARY: The U.S. Nuclear Regulatory Commission (NRC or the Commission) has issued for public comment a document entitled, NUREG-1934 (EPRI 1023259), “Nuclear Power Plant Fire Modeling Application Guide (NPP FIRE MAG), Second Draft Report for Comment.”

DATES: Please submit comments by August 31, 2011. Comments received after this date will be considered if it is practical to do so, but the NRC is able to ensure consideration only for comments received on or before this date.

ADDRESSES: Please include Docket ID NRC-2009-0568 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web site: Go to http://www.regulations.gov and search for documents filed under Docket ID NRC-2009-0568. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

You can access publicly available documents related to this document using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. NUREG-1934 (EPRI 1023259), “Nuclear Power Plant Fire Modeling Application Guide (NPP FIRE MAG), Second Draft for Comment,” is available electronically under ADAMS Accession Number ML11200A097.

• Federal Rulemaking Web site: Public comments and supporting materials related to this notice can be found at http://www.regulations.gov by searching on Docket ID NRC-2009-0568.

FOR FURTHER INFORMATION CONTACT: David Stroup, Division of Risk Analysis, Office of Nuclear Regulatory Research, U.S. Nuclear Regulatory Commission, Washington, DC 20555-0001. Telephone: 301-251-7609; e-mail: David.Stroup@nrc.gov.

SUPPLEMENTARY INFORMATION: The NRC has used risk-informed insights as a part of its regulatory decision-making since the 1990s. In 2002, the National Fire Protection Association (NFPA) issued the first edition of NFPA 805, “Performance-Based Standard for Fire Protection for Light-Water Reactor Electric Generating Plants.” In July 2004, NRC amended its fire protection requirements in Title 10 of the Code of Federal Regulations (10 CFR) 50.48 to permit existing reactor licensees to voluntarily adopt fire protection requirements contained in NFPA 805 as an alternative to the existing deterministic requirements. One important element in a performance-based analysis is the estimation of the consequences of fire. Fire modeling is one possible approach to determine the impact of postulated fire scenarios in nuclear power plants.

NUREG-1934 (EPRI 1023259) “Nuclear Power Plant Fire Modeling Application Guide (NPP FIRE MAG)” was written as a collaborative effort by NRC's Office of Nuclear Regulatory Research (RES) and the Electric Power Research Institute (EPRI) as a part of the NRC/RES-EPRI Memorandum of Understanding to provide guidance on using fire modeling for nuclear power plant applications. This report will assist both the user performing the calculation and the reviewers. It includes guidance on selecting appropriate models for a given fire scenario and on understanding the levels of confidence that can be attributed to the model results. In addition, the report discusses the features and limitations of the five fire models documented in NUREG-1824 (EPRI 1011999), “Verification & Validation of Selected Fire Models for Nuclear Power Plant Applications.” The report also will form the foundation for future fire model training being developed by RES and EPRI.

The first draft of NUREG-1934 was released in December 29, 2009, for a 60-day public comment period (74 FR 68872). Numerous comments were received, and they have been addressed in this second draft. Because of the extensive interest generated by the first public comment period, the revised draft is being issued for an additional 30-day public comment period.

Dated at Rockville, Maryland, this 22nd day of July, 2011.
For the Nuclear Regulatory Commission.
Richard P. Correia,
Director, Division of Risk Analysis, Office of Nuclear Regulatory Research.

[FR Doc. 2011-19489 Filed 8-1-11; 8:45 am]

BILLING CODE 7590-01-P